DEPARTMENT OF DEFENSE

Office of the Secretary

Establishment of Federal Advisory Committee

AGENCY: Office of the Secretary, DoD.

ACTION: Notice.

SUMMARY: Under the provisions of section 744 of Public Law 109-364 (the John Warner National Defense Authorization Act for Fiscal Year 2007), the Federal Advisory Committee Act of 1972, (5 U.S.C. Appendix, as amended), the Government in the Sunshine Act of 1976 (5 U.S.C. 552b, as amended), and 41 CFR 102-3.65, the Department of Defense gives notice that it intends to establish the Traumatic Brain Injury Family Caregiver Panel, as a subcommittee of the Defense Health Board.

Pursuant to section 744(b)(5) and (c) of Public Law 109-364, the Traumatic Brain Injury Family Caregiver Panel shall develop the required curricula, and the Secretary of Defense shall disseminate the curricula to:

(a) To health care professionals who or otherwise work with members and former members of the Armed Forces with traumatic brain injury;

(b) To family members affected by the traumatic brain injury of such members and former members; and

(c) To other care or support personnel who may provide service to members or former members affected by traumatic brain injury.

No later than one year after the development of the curricula required by section 744(b) of Public Law 109-364, the Secretary of Defense and the Secretary of Veterans Affairs shall submit to the Committees on Armed Services and Veterans Affairs of the Senate and the House of Representatives a report on the following: (a) The actions undertaken under section 744(b) of Public Law 109-364; and (b) recommendations for the improvement or updating of training curriculum developed and provided under section 744 of Public Law 109-364.

This non-discretionary advisory committee, which will operate as a subcommittee of the Defense Health Board, shall provide the Department of Defense and the Department of Veterans Affairs independent advice and recommendations on the development of training curricula to be used by family members of members and former members of the Armed Forces on techniques, strategies, and skills for care and assistance for such members and former members with traumatic brain injury.

Even though the Traumatic Brain Injury Family Caregiver Panel shall operate as a subcommittee of the Defense Health Board and not as a chartered federal advisory committee, the Panel shall comply with: (a) The full provisions of section 744 of Public Law 109-364; and (b) the spirit and intent of the Federal Advisory Committee Act of 1972, the Government in the Sunshine Act of 1976, and 41 CFR 102-3.5 through 102-3.185.

Whenever the Traumatic Brain Injury Family Caregiver Panel meets for the purpose of deliberating on the substantive matters upon which it is providing advice or recommendations, it must meet under the open-meeting rules of the Federal Advisory Committee Act and the Government in the Sunshine Acts. In addition, the Traumatic Brain Injury Family Caregiver Panel's recommendations, prior to being submitted to the government's decision maker, shall be deliberated under the same open-meeting rules by the Defense Health Board.

The Traumatic Brain Injury Family Caregiver Panel, as a subcommittee of the Defense Health Board, shall be authorized to establish subcommittees, as necessary and consistent with its mission, and these subcommittees or working groups shall operate under the provisions of the Federal Advisory Committee Act of 1972, the Government in the Sunshine Act of 1976, and other appropriate Federal regulations.

Such subcommittees or workgroups shall not work independently of the Traumatic Brain Injury Family Caregiver Panel, and shall report all their recommendations and advice Traumatic Brain Injury Family Caregiver Panel for full deliberation and discussion. Subcommittees or workgroups have no authority to make decisions on behalf of the Traumatic Brain Injury Family Caregiver Panel nor can they report directly to the Department of Defense or any Federal officers or employees who are not members of the Defense Health Board.

Pursuant to section 744(a)(2) of Public Law 109-364, the Traumatic Brain Injury Family Caregiver Panel shall consist of 15 members appointed by the Secretary of Defense in consultation with the Secretary of Veterans Affairs. The Secretary of Defense in appointing members for the Traumatic Brain Injury Family Caregiver Panel shall consider members from among the following:

(a) Physicians, nurses, rehabilitation therapists, and other individuals with traumatic brain injury, including persons who specialize in caring for and assisting individuals with traumatic brain injury incurred in combat;

(b) Representatives of family caregivers or family caregiver associations;

(c) Health and medical personnel of the Department of Defense and the Department of Veterans Affairs with expertise in traumatic brain injury and personnel and readiness representatives of the Department of Defense with expertise in traumatic brain injury;

(d) Psychologists or other individuals with expertise in the mental health treatment and care of individuals with traumatic brain injury;

(e) Experts in the development of training curricula;

(f) Family members of members of the Armed Forces with traumatic brain injury; and

(g) Such other individuals the Secretary of Defense considers appropriate.

Panel and subcommittee members appointed by the Secretary of Defense, who are not full-time Federal officers or employees, shall serve as Special Government Employees under the authority of 5 U.S.C. 3109. Panel and subcommittee members shall be appointed on an annual basis by the Secretary of Defense, and with the exception of travel and per diem for official travel, they shall serve without compensation. The Assistant Secretary of Defense for Health Affairs shall select the Panel's chairperson from the total Panel membership.

In accordance with DoD policy and procedures, the Assistant Secretary of Defense for Health Affairs is authorized to act upon the advice emanating from the Traumatic Brain Injury Family Caregiver Panel.

SUPPLEMENTARY INFORMATION: The Traumatic Brain Injury Family Caregiver Panel shall meet at the call of the Defense Health Board's Designated Federal Officer, in consultation with the chairperson of the Traumatic Brain Injury Family Caregiver Panel. The Designated Federal Officer, pursuant to DoD policy, shall be a full-time or permanent part-time DoD employee, and shall be appointed in accordance with established DoD policies and procedures. The Designated Federal Officer or duly appointed Alternate Designated Federal Officer shall attend all Traumatic Brain Injury Family Caregiver Panel meetings and meetings of any subcommittees for the Traumatic Brain Injury Family Caregiver Panel.

Pursuant to 41 CFR 102-3.105(j) and 102-3.140, the public or interested organizations may submit written statements to the Traumatic Brain Injury Family Caregiver Panel membership about the Panel's mission and functions. Written statements may be submitted at any time or in response to the stated agenda of planned meeting of the Traumatic Brain Injury Family Caregiver Panel.

All written statements shall be submitted to the Designated Federal Officer for the Defense Health Board, and this individual will ensure that the written statements are provided to the membership for their consideration. Contact information for the Defense Health Board's Designated Federal Officer can be obtained from the GSA's FACA Database— https://www.fido.gov/facadatabase/public.asp.

The Designated Federal Officer, pursuant to 41 CFR 102-3.150, will announce planned meetings of the Traumatic Brain Injury Family Caregiver Panel. The Designated Federal Officer, at that time, may provide additional guidance on the submission of written statements that are in response to the stated agenda for the planned meeting in question.

FOR FURTHER INFORMATION CONTACT: Jim Freeman, DoD Committee Management Office, 703-601-2554, extension 128.

Dated: November 8, 2007.
L. M. Bynum,
Alternate OSD Federal Register, Liaison Officer, Department of Defense.

[FR Doc. E7-22324 Filed 11-14-07; 8:45 am]

BILLING CODE 5001-06-P